DEPARTMENT OF VETERANS AFFAIRS

[OMB Control No. 2900-0104]

Proposed Information Collection (Report of Accidental Injury in Support of Claim for Compensation or Pension) Activity: Comment Request

AGENCY: Veterans Benefits Administration, Department of Veterans Affairs.

ACTION: Notice.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed extension of a currently approved collection and allow 60 days for public comment in response to this notice. This notice solicits comments on the information needed to support a claim for disability benefits based on an accidental injury.

DATES: Written comments and recommendations on the proposed collection of information should be received on or before August 4, 2008.

ADDRESSES: Submit written comments on the collection of information through www.Regulations.gov or to Nancy J. Kessinger, Veterans Benefits Administration (20M35), Department of Veterans Affairs, 810 Vermont Avenue, NW., Washington, DC 20420 or e-mail to nancy.kessinger@va.gov. Please refer to “OMB Control No. 2900-0104” in any correspondence. During the comment period, comments may be viewed online through the Federal Docket Management System (FDMS) at http://www.Regulations.gov.

FOR FURTHER INFORMATION CONTACT: Nancy J. Kessinger at (202) 461-9769 or FAX (202) 275-5947.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: Report of Accidental Injury in Support of Claim for Compensation or Pension, VA Form 21-4176.

OMB Control Number: 2900-0104.

Type of Review: Extension of a currently approved collection.

Abstract: The data collected on VA Form 21-4176 is used to determine a veteran's eligibility for disability benefits based on an accidental injury that he or she incurred while in the line of duty and by individuals who witness the accidental injury. VA uses the information collected to determine whether the injury was the result of a willful misconduct by the veteran.

Affected Public: Individuals or households.

Estimated Annual Burden: 2,204.

Estimated Average Burden per Respondent: 30 minutes.

Frequency of Response: On occasion.

Estimated Number of Respondents: 4,408.

Dated: May 23, 2008.
By direction of the Secretary.
Denise McLamb,
Program Analyst, Records Management Service.

[FR Doc. E8-12346 Filed 6-2-08; 8:45 am]

BILLING CODE 8320-01-P